DEPARTMENT OF JUSTICE

Notice of Lodging of Consent Decree Under Sections 106, 107 and 113 of the Comprehensive Environmental Response, Compensation, and Liability Act of 1980, 42 U.S.C. 9606, 9607 and 9613, as Amended

Notice is hereby given that on January 20, 2010 a Consent Decree in United States of America v. U.S. Borax Inc., Civil Action No. 4:10-cv-00057 was lodged with the United States District Court for the Western District of Missouri.

In this action the United States sought, pursuant to the Comprehensive Environmental Response, Compensation, and Liability Act of 1980, 42 U.S.C. 9601 et seq., as amended (“CERCLA”), declaratory relief, injunctive relief, and recovery of response costs incurred and to be incurred by the United States in connection with the release or threatened release of hazardous substances at or from the Armour Road Superfund Site, located at and adjacent to 2251 Armour Road in North Kansas City, Clay County, Missouri (“Site”). The Consent Decree requires the settling defendant to perform a remedial investigation and feasibility study (“RI/FS”) for the Site and to pay the costs incurred and to be incurred by the United States in connection with the RI/FS. The work to be performed by the settling defendant is expected to cost about $600,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States of America v. U.S. Borax Inc., Civil Action 4:10-cv-00057 (W.D. Missouri), D.J. Ref. No. 90-11-3-08035/3.

During the comment period, the Consent Decrees may be examined on the following Department of Justice Web site: http://www.usdoj.gov/enrd/Consent_Decrees.html. A copy of the Consent Decree may also be examined at the Office of the United States Attorney, Western District of Missouri, Charles Evans Whittaker Courthouse, 400 East 9th Street, Room 5510, Kansas City, MO 64106 (Contact: Charles Thomas, Assistant United States Attorney), and at U.S. EPA Region VII, 901 N. 5th Street, Kansas City, Kansas 66101. Copies of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $17.00 (25 cents per page reproduction cost) payable to the United States Treasury or, if by e-mail or fax, forward a check in that amount to the Consent Decree Library at the stated address.

Maureen Katz,
Assistant Section Chief, Environmental Enforcement Section.

[FR Doc. 2010-2070 Filed 2-1-10; 8:45 am]

BILLING CODE 4410-15-P